SMALL BUSINESS ADMINISTRATION

[Disaster Declaration #16253 and #16254; Puerto Rico Disaster Number PR-00034]

Presidential Declaration Amendment of a Major Disaster for the State of Puerto Rico

AGENCY: U.S. Small Business Administration.

ACTION: Amendment 1.

SUMMARY: This is an amendment of the Presidential declaration of a major disaster for the State of Puerto Rico (FEMA-4473-DR), dated 01/22/2020.

Incident: Earthquakes.

Incident Period: 12/28/2019 and continuing.

DATES: Issued on 01/22/2020.

Physical Loan Application Deadline Date: 03/16/2020.

Economic Injury (EIDL) Loan Application Deadline Date: 10/16/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Puerto Rico, dated 01/16/2020, is hereby amended to include the following areas as adversely affected by the disaster:

Primary Counties (Physical Damage and Economic Injury Loans): Adjuntas, Cabo Rojo, Corozal, Jayuya, Lajas, Lares, Maricao, San German, San Sebastian, Villalba.

Contiguous Counties (Economic Injury Loans Only):

Puerto Rico: Anasco, Barranquitas, Camuy, Coamo, Hormigueros, Isabela, Las Marias, Mayaguez, Moca, Morovis, Naranjito, Orocovis, Quebradillas, Toa Alta, Vega Alta.

All other information in the original declaration remains unchanged.

(Catalog of Federal Domestic Assistance Number 59008)

Rafaela Monchek,
Acting Associate Administrator for Disaster Assistance.

[FR Doc. 2020-01412 Filed 1-27-20; 8:45 am]

BILLING CODE 8026-03-P